DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning the renewal of FEMA's National Flood Insurance Program's (NFIP) Biennial Report forms (FEMA Form 81-28, FEMA Form 81-29, FEMA Form 81-29A). Under 44 CFR 59.22(b)(2), the Federal Emergency Management Agency (FEMA) requires that communities participating in the National Flood Insurance Program (NFIP) submit an annual or biennial report describing the progress made during the year in the implementation and enforcement of floodplain management regulations. Currently, FEMA has determined that this data will be collected on a biennial reporting cycle and the data collection is now referred to as the Biennial Report.

SUPPLEMENTARY INFORMATION: Under 44 CFR 59.22(b)(2), the Federal Emergency Management Agency (FEMA) requires that communities participating in the National Flood Insurance Program (NFIP) submit an annual or biennial report describing the progress made during the year in the implementation and enforcement of floodplain management regulations. Currently, FEMA has determined that this data will be collected on a biennial reporting cycle and the data collection is now referred to as the Biennial Report. As a supplement to the Biennial Report, FEMA has been mandated under Section 575 of the National Flood Insurance Reform Act of 1994 (NFIRA) to assess the need to revise and update all floodplain areas and flood risk zones identified, delineated, or established under section 1360 of the National Flood Insurance Act of 1968.

The NFIP Biennial Report enables FEMA to meet its regulatory requirement under 59.22(b)(2). It also enables FEMA to be more responsive to the on-going changes that occur in each participating community's flood hazard area. These changes include, but are not limited to, new corporate boundaries, changes in flood hazard areas, new floodplain management measures, and changes in rate of floodplain development. It is also used to evaluate the effectiveness of the community's floodplain management activities. The evaluation is accomplished by analyzing information provided by the community, such as the number of variances and floodplain permits granted by each community in relationship to other information contained in the Biennial Report, as well as other data available in FEMA's Community Information System (CIS). The Biennial Report also provides an opportunity for NFIP participating communities to request technical assistance in implementing a floodplain management program. FEMA regional offices use this information as a means to know which communities need support and guidance. In addition, the NFIP Biennial Report is one of the tools used to assist FEMA in meeting its regulatory requirement under Section 575 of the NFIRA. A “yes” answer to Items A-D in Section I of the report will provide the basis for FEMA to follow-up by contacting the community for clarification and/or elaboration regarding changes and activities occurring in a community's flood hazard area. This information will be used in ranking and prioritizing one community's mapping needs against all other communities in the NFIP and for determining how the limited flood hazard mapping funds are allocated for map updates.

Collection of Information

Title: The National Flood Insurance Program-Biennial Report.

Type of Information Collection: Extension of a currently approved collection.

OMB Number: 1660-0003.

Form Numbers: FEMA Form 81-28, FEMA Form 81-29, FEMA Form 81-29A.

Abstract: The NFIP Biennial Report enables FEMA to meet its regulatory requirement under 59.22(b)(2). It also enables FEMA to be more responsive to the on-going changes that occur in each participating community's flood hazard area. These changes include, but are not limited to, new corporate boundaries, changes in flood hazard areas, new floodplain management measures, and changes in rate of floodplain development. It is also used to evaluate the effectiveness of the community's floodplain management activities. The evaluation is accomplished by analyzing information provided by the community, such as the number of variances and floodplain permits granted by each community in relationship to other information contained in the Biennial Report, as well as other data available in FEMA's Community Information System (CIS). The Biennial Report also provides an opportunity for NFIP participating communities to request technical assistance in implementing a floodplain management program. FEMA regional offices use this information as a means to know which communities need support and guidance. In addition, the NFIP Biennial Report is one of the tools used to assist FEMA in meeting its regulatory requirement under Section 575 of the NFIRA. A “yes” answer to Items A-D in Section I of the report will provide the basis for FEMA to follow-up by contacting the community for clarification and/or elaboration regarding changes and activities occurring in a community's flood hazard area. This information will be used in ranking and prioritizing one community's mapping needs against all other communities in the NFIP and for determining how the limited flood hazard mapping funds are allocated for map updates.

Affected Public: The respondents are the estimated 20,500 United States and United States territorial communities that are participating members of the National Flood Insurance Program (NFIP). The NFIP requires that communities participating in the NFIP submit an annual or biennial report describing the progress made during the year in the implementation and enforcement of floodplain management regulations.

Estimated Total Annual Burden Hours: 11,375 burden hours.

Annual Burden Hours
Project/activity (survey, form(s), focus group, worksheet, etc.) | Number of respondents (A) | Frequency of responses (B) | Burden hours per respondent (C) | Annual responses (A × B) | Total annual burden hours (A × B × C)
FF 81-28 | 5,930 | 0.5 | 0.75 | 2,965 | 2,223
FF 81-29 | 12,224 | 0.5 | 1.44 | 6,112 | 8,801
FF 81-29A | 2,346 | 0.5 | 0.3 | 1,173 | 351
Total | 20,500 | 0.5 |  | 10,250 | 11,375

Estimated Cost: The estimated annual cost of the collection of the Biennial Report forms is estimated to be $180,520.

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Chief, Records Management Section, Information Resources Management Branch, Information Technology Services Division, Federal Emergency Management Agency, Emergency Preparedness and Response Directorate, Department of Homeland Security, 500 C Street, SW., Room 316, Washington, DC 20472.

FOR FURTHER INFORMATION CONTACT: Contact William Lesser, Lead Program Specialist at (202) 646-2807 for additional information. You may contact the Records Management Section for copies of the proposed collection of information at facsimile number (202) 646-3347 or e-mail address: FEMA-Information-Collections@dhs.gov.

Dated: August 25, 2005.
George S. Trotter,
Acting Branch Chief, Information Resources Management Branch, Information Technology Services Division.

[FR Doc. 05-17339 Filed 8-30-05; 8:45 am]

BILLING CODE 9110-12-P